DEPARTMENT OF THE INTERIOR

Fish and Wildlife Service

[FWS-HQ-FAC-2019-N110; FVWF97920900000-FF09F42300-XXX]

Sport Fishing and Boating Partnership Council Meeting

AGENCY: Fish and Wildlife Service, Interior.

ACTION: Notice of meeting.

SUMMARY: We, the U.S. Fish and Wildlife Service, announce a public meeting of the Sport Fishing and Boating Partnership Council (SFBPC), in accordance with the Federal Advisory Committee Act. The SFBPC's purpose is to advise the Secretary of the Interior, through the Director of the U.S. Fish and Wildlife Service, on aquatic conservation endeavors that benefit recreational resources and recreational boating and that encourage partnerships among industry, the public, and the government.

DATES: Meeting: The SFBPC will meet on Wednesday, October 16, 2019, from 8:30 a.m. to 4:30 p.m., and Thursday, October 17, 2019, from 8:30 a.m. to 1:30 p.m. The meeting is open to the public. For security purposes, registration is required. For more information, contact the Designated Federal Officer (see FOR FURTHER INFORMATION CONTACT, below).

Comment submission: You may submit written comments in advance of the meeting by emailing them to the Designated Federal Officer by close of business on October 11, 2019.

Requests for accommodation: Please contact the Designated Federal Officer no later than October 8, 2019.

ADDRESSES: Meeting location: Homewood Suites, 317 North Rampart Street, New Orleans, Louisiana 70112.

FOR FURTHER INFORMATION CONTACT: Linda Friar, Designated Federal Officer, by telephone at 703-358-2056, or by email at linda_friar@fws.gov.

Accessibility: The U.S. Fish and Wildlife Service is committed to providing access to this meeting for all participants. Please direct all requests for sign language interpreting services, closed captioning, or other accommodation needs to the Designated Federal Officer, by using the contact information above or via TTY at 800-877-8339.

SUPPLEMENTARY INFORMATION: We, the U.S. Fish and Wildlife Service, announce a public meeting of the Sport Fishing and Boating Partnership Council (SFBPC), in accordance with the Federal Advisory Committee Act (5 U.S.C. Appendix 2). Established in 1993, the SFBPC advises the Secretary of the Interior, through the Director of the U.S. Fish and Wildlife Service, on aquatic conservation endeavors that benefit recreational resources and recreational boating and that encourage partnerships among industry, the public, and the government.

Meeting Agenda

• Review action items.

• Review formal and informal communications.

• Program updates.

• SFBPC subcommittee updates.

• New business.

The final agenda and other related meeting information will be posted on the SFBPC website at https://www.fws.gov/sfbpc/ by September 30, 2019. Summary minutes of the meeting will be maintained by the Designated Federal Officer and will be available for public inspection within 90 days after the meeting at https://www.fws.gov/sfbpc/.

Public Input

If you provide a written comment, before including your address, phone number, email address, or other personal identifying information in your comment, you should be aware that your entire comment—including your personal identifying information—may be made publicly available at any time. While you can ask us in your comment to withhold your personal identifying information from public review, we cannot guarantee that we will be able to do so.

Authority 5 U.S.C. Appendix 2.

Dated: September 10, 2019.
David W. Hoskins,
Assistant Director for Fish and Aquatic Conservation.

[FR Doc. 2019-21205 Filed 9-30-19; 8:45 am]

BILLING CODE 4333-15-P